ENVIRONMENTAL PROTECTION AGENCY

40 CFR Part 52

[EPA-R10-OAR-2018-0238, FRL-9984-78-Region 10]

Air Plan Approval; Oregon; Lane County Permitting and General Rule Revisions

AGENCY: Environmental Protection Agency (EPA).

ACTION: Final rule.

SUMMARY: The Environmental Protection Agency (EPA) is approving, and incorporating by reference, specific changes to the Oregon State Implementation Plan (SIP) as it applies in Lane County, Oregon. The local air agency in Lane County, Lane Regional Air Protection Agency, revised its rules to align with recent changes to Oregon State regulations. The revisions, submitted on August 29, 2014 and March 27, 2018, are related to the criteria pollutants for which the EPA has established national ambient air quality standards—carbon monoxide, lead, nitrogen dioxide, ozone, particulate matter, and sulfur dioxide. The regulatory changes address Federal particulate matter requirements, update the major and minor source pre-construction permitting programs, add State-level air quality designations, update public processes, and tighten emission standards for dust and smoke.

DATES: This final rule is effective November 5, 2018.

ADDRESSES: The EPA has established a docket for this action under Docket ID No. EPA-R10-OAR-2018-0238. All documents in the docket are listed on the https://www.regulations.gov website. Although listed in the index, some information is not publicly available, e.g., Confidential Business Information (CBI) or other information the disclosure of which is restricted by statute. Certain other material, such as copyrighted material, is not placed on the internet and is publicly available only in hard copy form. Publicly available docket materials are available at https://www.regulations.gov, or please contact the person identified in the FOR FURTHER INFORMATION CONTACT section for additional availability information.

FOR FURTHER INFORMATION CONTACT: Kristin Hall, at (206) 553-6357, or hall.kristin@epa.gov.

SUPPLEMENTARY INFORMATION: Throughout this document wherever “we”, “us”, or “our” is used, it is intended to refer to the EPA.

Table of Contents

I. Background

II. Comments

III. Final Action

A. Rules Approved and Incorporated by Reference

B. Rules Approved but Not Incorporated by Reference

C. Rules Removed

D. Rules Deferred

IV. Incorporation by Reference

V. Oregon Notice Provision

VI. Statutory and Executive Order Reviews

I. Background

On August 29, 2014 and March 27, 2018, Lane Regional Air Protection Agency (LRAPA) and Oregon Department of Environmental Quality (ODEQ) submitted revisions to the SIP as it applies in Lane County, Oregon. On July 31, 2018, the EPA proposed to approve the submitted rule changes (83 FR 36824). Please see our proposed rulemaking for further explanation and the basis of our finding.

II. Comments

During the public comment period on our proposed action, we received two electronic comments covering broad topics including wildfires, forest management practices, climate change, and the National Environmental Policy Act. We have determined the comments lack the required specificity to the Oregon SIP revisions and/or the requirements of CAA section 110 and parts C and D. Moreover, the comments do not address a specific regulation or provision in question, or recommend a different action on the SIP submissions. Therefore, we find that the submitted comments are outside the scope of this action and not adverse. The full text of the submitted comments can be found in the docket for this action. We are finalizing our action as proposed.

III. Final Action

The EPA is approving, and incorporating by reference into the Oregon SIP, rule revisions submitted on August 29, 2014 (State effective March 31, 2014) and March 27, 2018 (State effective March 23, 2018) for Lane County. We are also approving, but not incorporating by reference, regulations that provide LRAPA with authority needed for SIP approval.

As discussed in the proposal and described below, we are reviewing and approving the most recent version of the submitted rules applicable in Lane County, specifically, the most recently adopted and submitted version of each rule section. Further action on the earlier adopted version of a particular submitted rule section is not required because it is no longer in effect and has been superseded by the most recent version of that rule section submitted by the State.

As requested by LRAPA and the State, we are also removing certain rules from the SIP, because they are obsolete, redundant, or replaced by equivalent or more stringent local rules. We are deferring action on a section of rules because we intend to address them in a separate, future action.

We note that the submissions include changes to OAR 340-200-0040, a rule that describes the Oregon procedures for adopting its SIP and references all of the State air regulations that have been adopted by LRAPA and ODEQ for approval into the SIP (as a matter of State law), whether or not they have yet been submitted to or approved by the EPA. We are not approving the changes to OAR 340-200-0040 because the federally-approved SIP consists only of regulations and other requirements that have been submitted by LRAPA and ODEQ and approved by the EPA.

A. Rules Approved and Incorporated by Reference

We are approving into the Oregon SIP, and incorporating by reference at 40 CFR part 52, subpart MM, revisions to the following LRAPA rule sections. Each rule section listed is State effective March 23, 2018, unless marked with an asterisk, denoting it is effective March 31, 2014:

• Title 12—Definitions (001, 005, 010, 020, 025);

• Title 29—Designation of Air Quality Areas (0010, 0020, 0030, 0040, 0050, 0060, 0070*, 0080*, 0090*, 0300, 0310, 0320);

• Title 30—Incinerator Regulations (010, 015*, 020*—except (2) and (8), 025*—except (9), 030*—except (1)(I) and (2)(E), 035*, 040*, 045*—except (3), 050*, 055*, 060*);

• Title 31—Public Participation (0010, 0020, 0030, 0040, 0050, 0060, 0080);

• Title 32—Emission Standards (001, 005, 006, 007, 008, 009, 010, 015, 020, 030, 045, 050, 060, 065, 070, 090*, 100, 8010);

• Title 33—Prohibited Practices and Control of Special Classes of Industry (005, 060, 065, 070—except, in (1), the definitions of “non-condensables”, “other sources”, and “TRS”, (3)(a), (4)(b), (5)(b), (6)(a), (6)(b), 500);

• Title 34—Stationary Source Notification Requirements (005, 010, 015, 016, 017, 020, 025, 030, 034, 035, 036, 037, 038);

• Title 35—Stationary Source Testing and Monitoring (0010, 0110, 0120, 0130, 0140, 0150*);

• Title 37—Air Contaminant Discharge Permits (0010, 0020, 0025, 0030, 0040, 0052, 0054, 0056, 0060, 0062, 0064, 0066, 0068, 0070, 0082, 0084, 0090, 0094, 8010, 8020);

• Title 38—New Source Review (0010, 0020, 0025, 0030, 0034, 0038, 0040, 0045, 0050, 0055, 0060, 0070, 0245, 0250, 0255, 0260, 0270, 0500, 0510—except (3), 0530, 0540);

• Title 40—Air Quality Analysis Requirements (0010, 0020, 0030, 0040, 0045, 0050, 0060, 0070);

• Title 41—Emission Reduction Credits (0010*, 0020, 0030);

• Title 42—Stationary Source Plant Site Emission Limits (0010, 0020, 0030, 0035, 0040, 0041, 0042, 0046, 0048, 0051, 0055, 0080, 0090);

• Title 48—Rules for Fugitive Emissions (001, 005, 010, 015);

• Title 50—Ambient Air Standards and PSD Increments (001, 005, 015, 025, 030, 035, 040, 045, 050, 055, 060*, 065); and

• Title 51—Air Pollution Emergencies (005, 007, 010, 011, 015, 020, 025, Table I, Table II, Table III).

B. Rules Approved but Not Incorporated by Reference

We are approving, but not incorporating by reference, the following LRAPA rule sections. Each rule section is State effective March 23, 2018, unless marked with an asterisk, denoting the rule is effective March 31, 2014:

• Title 13—General Duties and Powers of Board and Director (005*, 010*, 020*, 025*, 030*, 035*);

• Title 14—Rules of Practice and Procedures (110, 115, 120, 125, 130, 135, 140, 145, 147, 150, 155, 160, 165, 170, 175, 185, 190, 200, 205); and

• Title 31—Public Participation (0070).

C. Rules Removed

We are removing the following rules from the current federally-approved Oregon SIP at 40 CFR part 52, subpart MM, because they have been repealed, replaced by rules noted in paragraph A. above, or the State has asked that they be removed:

• Title 12—Definitions (001(2)), State effective March 8, 1994;

• Title 30—Incinerator Regulations (005), State effective March 8, 1994;

• Title 33—Prohibited Practices and Control of Special Classes of Industry (030, 045), State effective November 10, 1994; and

• Title 34—Stationary Source Notification Requirements (040), State effective June 13, 2000.

We also are removing the following rules in the table entitled, “Rules Also Approved for Lane County”, State effective April 16, 2015, because LRAPA has submitted equivalent or more stringent local rules to apply in place of those requirements:

Table 5—EPA-Approved Oregon Administrative Rules (OAR) Also Approved for Lane County

• Division 200—General Air Pollution Procedures and Definitions (0020);

• Division 202—Ambient Air Quality Standards and PSD Increments (0050);

• Division 204—Designation of Air Quality Areas (0300, 0310, 0320);

• Division 208—Visible Emissions and Nuisance Requirements (0110, 0210);

• Division 214—Stationary Source Reporting Requirements (0114)(5);

• Division 216—Air Contaminant Discharge Permits (0040, 8010);

• Division 222—Stationary Source Plant Site Emission Limits (0090);

• Division 224 -New Source Review (0030, 0530);

• Division 225—Air Quality Analysis Requirements (0010, 0020, 0030, 0040, 0045, 0050, 0060, 0070);

• Division 226—General Emissions Standards (0210); and

• Division 228—Requirements for Fuel Burning Equipment and Fuel Sulfur Content (0210).

D. Rules Deferred

As stated in the proposal, we are deferring action on the following rules, State effective March 23, 2018, and intend to address them in a separate, future action:

• Title 36—Excess Emissions (001, 005, 010, 015, 020, 025, 030).

We note that each of the Title 36 rule sections revised and submitted on August 29, 2014 (State effective March 31, 2014) were also revised and resubmitted on March 27, 2018 (State effective March 23, 2018). As a result, the 2018 submitted version of Title 36 entirely supersedes the 2014 submitted version.

IV. Incorporation by Reference

In this rule, the EPA is finalizing regulatory text that includes incorporation by reference. In accordance with requirements of 1 CFR 51.5, we are finalizing the incorporation by reference as described in Section III above and the amendments to 40 CFR part 52 set forth below. The EPA has made, and will continue to make, these materials generally available through https://www.regulations.gov and at the EPA Region 10 Office (please contact the person identified in the FOR FURTHER INFORMATION CONTACT section of this preamble for more information). Therefore, these materials have been approved by the EPA for inclusion in the SIP, have been incorporated by reference by the EPA into that plan, are fully federally-enforceable under sections 110 and 113 of the CAA as of the effective date of the final rulemaking of the EPA's approval, and will be incorporated by reference in the next update to the SIP compilation.¹

¹ See 62 FR 27968 (May 22, 1997).

V. Oregon Notice Provision

Oregon Revised Statute 468.126, prohibits ODEQ from imposing a penalty for violation of an air, water or solid waste permit unless the source has been provided five days' advanced written notice of the violation and has not come into compliance or submitted a compliance schedule within that five-day period. By its terms, the statute does not apply to Oregon's title V program or to any program if application of the notice provision would disqualify the program from Federal delegation. Oregon has previously confirmed that, because application of the notice provision would preclude EPA approval of the Oregon SIP, no advance notice is required for violation of SIP requirements.

VI. Statutory and Executive Order Reviews

Under the CAA, the Administrator is required to approve a SIP submission that complies with the provisions of the CAA and applicable Federal regulations. 42 U.S.C. 7410(k); 40 CFR 52.02(a). Thus, in reviewing SIP submissions, the EPA's role is to approve State choices, provided that they meet the criteria of the CAA. Accordingly, this action merely approves State law as meeting Federal requirements and does not impose additional requirements beyond those imposed by State law. For that reason, this action:

• Is not a significant regulatory action subject to review by the Office of Management and Budget under Executive Orders 12866 (58 FR 51735, October 4, 1993) and 13563 (76 FR 3821, January 21, 2011);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of section 12(d) of the National Technology Transfer and Advancement Act of 1995 (15 U.S.C. 272 note) because this action does not involve technical standards; and

• does not provide the EPA with the discretionary authority to address, as appropriate, disproportionate human health or environmental effects, using practicable and legally permissible methods, under Executive Order 12898 (59 FR 7629, February 16, 1994).

In addition, the SIP is not approved to apply on any Indian reservation land or in any other area where the EPA or an Indian Tribe has demonstrated that a Tribe has jurisdiction. In those areas of Indian country, the rule does not have Tribal implications as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by December 4, 2018. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2)).

List of Subjects in 40 CFR Part 52

Environmental protection, Air pollution control, Intergovernmental relations, Incorporation by reference, Lead, Nitrogen dioxide, Ozone, Particulate matter, Reporting and recordkeeping requirements, Sulfur oxides, Volatile organic compounds.

Authority: 42 U.S.C. 7401 et seq.

Dated: September 18, 2018.
Michelle L. Pirzadeh,
Acting Regional Administrator, Region 10.

For the reasons set forth in the preamble, 40 CFR part 52 is amended as follows:

PART 52—APPROVAL AND PROMULGATION OF IMPLEMENTATION PLANS

1. The authority citation for part 52 continues to read as follows:

Authority: 42 U.S.C. 7401 et seq.

Subpart MM—Oregon

2. Section 52.1970 is amended by:

a. In paragraph (c), revising Table 4 and removing Table 5; and

b. In paragraph (e), revising the table entitled “Lane County Regional Air Pollution Authority Regulations, Approved But Not Incorporated By Reference”.

The revisions read as follows:

§ 52.1970 Identification of plan.

* * * * *

(c) * * *

Table 4—EPA Approved Lane Regional Protection Agency (LRAPA) Rules for Oregon
LRAPA citation | Title/subject | State effective date | EPA approval date | Explanations
Title 11—Policy and General Provisions
11-005 | Policy | 10/9/1979 | 9/9/1993, 58 FR 47385 |
11-010 | Construction and Validity | 10/9/1979 | 9/9/1993, 58 FR 47385 |
Title 12—Definitions
12-001 | General | 3/23/2018 | 10/5/2018, [Insert Federal Register citation] |
12-005 | Definitions | 3/23/2018 | 10/5/2018, [Insert Federal Register citation] |
12-010 | Abbreviations and Acronyms | 3/23/2018 | 10/5/2018, [Insert Federal Register citation] |
12-020 | Exceptions | 3/23/2018 | 10/5/2018, [Insert Federal Register citation] |
12-025 | Reference Materials | 3/23/2018 | 10/5/2018, [Insert Federal Register citation] |
Title 16—Home Wood Heating Curtailment Program Enforcement
16-001 | Purpose | 7/13/1993 | 8/24/1994, 59 FR 43483 |
16-010 | Definitions | 7/13/1993 | 8/24/1994, 59 FR 43483 |
16-100 | Civil Penalty Schedule | 7/13/1993 | 8/24/1994, 59 FR 43483 |
16-110 | Classification of Violations | 7/13/1993 | 8/24/1994, 59 FR 43483 |
16-120 | Notice of Violation | 7/13/1993 | 8/24/1994, 59 FR 43483 |
16-130 | Appeal of Civil Penalty | 7/13/1993 | 8/24/1994, 59 FR 43483 |
16-140 | Conducting Contested Case Evidentiary Hearings | 7/13/1993 | 8/24/1994, 59 FR 43483 |
16-150 | Evidentiary Rules | 7/13/1993 | 8/24/1994, 59 FR 43483 |
16-160 | Final Orders | 7/13/1993 | 8/24/1994, 59 FR 43483 |
16-170 | Default Orders | 7/13/1993 | 8/24/1994, 59 FR 43483 |
Title 29—Designation of Air Quality Areas
29-0010 | Definitions | 3/23/2018 | 10/5/2018, [Insert Federal Register citation] |
29-0020 | Designation of Air Quality Control Regions | 3/23/2018 | 10/5/2018, [Insert Federal Register citation] |
29-0030 | Designation of Nonattainment Areas | 3/23/2018 | 10/5/2018, [Insert Federal Register citation] |
29-0040 | Designation of Maintenance Areas | 3/23/2018 | 10/5/2018, [Insert Federal Register citation] |
29-0050 | Designation of Prevention of Significant Deterioration Areas | 3/23/2018 | 10/5/2018, [Insert Federal Register citation] |
29-0060 | Redesignation of Prevention of Significant Deterioration Areas | 3/23/2018 | 10/5/2018, [Insert Federal Register citation] |
29-0070 | Special Control Areas | 3/31/2014 | 10/5/2018, [Insert Federal Register citation] |
29-0080 | Motor Vehicle Inspection Boundary Designations | 3/31/2014 | 10/5/2018, [Insert Federal Register citation] |
29-0090 | Oxygenated Gasoline Control Areas | 3/31/2014 | 10/5/2018, [Insert Federal Register citation] |
Designation of Areas
29-0300 | Designation of Sustainment Areas | 3/23/2018 | 10/5/2018, [Insert Federal Register citation] |
29-0310 | Designation of Reattainment Areas | 3/23/2018 | 10/5/2018, [Insert Federal Register citation] |
29-0320 | Priority Sources | 3/23/2018 | 10/5/2018, [Insert Federal Register citation] |
Title 30—Incinerator Regulations
30-010 | Definitions | 3/23/2018 | 10/5/2018, [Insert Federal Register citation] |
30-015 | Best Available Control Technology for Solid and Infectious Waste Incinerators | 3/31/2014 | 10/5/2018, [Insert Federal Register citation] |
30-020 | Emission Limitations for Solid and Infectious Waste Incinerators | 3/31/2014 | 10/5/2018, [Insert Federal Register citation] | Except (2) and (8).
30-025 | Design and Operation for Solid and Infectious Waste Incinerators | 3/31/2014 | 10/5/2018, [Insert Federal Register citation] | Except (9).
30-030 | Continuous Emission Monitoring for Solid and Infectious Waste Incinerators | 3/31/2014 | 10/5/2018, [Insert Federal Register citation] | Except (1)(I) and (2)(E).
30-035 | Reporting and Testing for Solid and Infectious Waste Incinerators | 3/31/2014 | 10/5/2018, [Insert Federal Register citation] |
30-040 | Compliance for Solid and Infectious Waste Incinerators | 3/31/2014 | 10/5/2018, [Insert Federal Register citation] |
30-045 | Emission Limitations of Crematory Incinerators | 3/31/2014 | 10/5/2018, [Insert Federal Register citation] | Except (3).
30-050 | Design and Operation of Crematory Incinerators | 3/31/2014 | 10/5/2018, [Insert Federal Register citation] |
30-055 | Monitoring and Reporting for Crematory Incinerators | 3/31/2014 | 10/5/2018, [Insert Federal Register citation] |
30-060 | Compliance of Crematory Incinerators | 3/31/2014 | 10/5/2018, [Insert Federal Register citation] |
Title 31—Public Participation
31-0010 | Purpose | 3/23/2018 | 10/5/2018, [Insert Federal Register citation] |
31-0020 | Applicability | 3/23/2018 | 10/5/2018, [Insert Federal Register citation] |
31-0030 | Public Notice Categories and Timing | 3/23/2018 | 10/5/2018, [Insert Federal Register citation] |
31-0040 | Public Notice Information | 3/23/2018 | 10/5/2018, [Insert Federal Register citation] |
31-0050 | Public Notice Procedures | 3/23/2018 | 10/5/2018, [Insert Federal Register citation] |
31-0060 | Persons Required to be Notified | 3/23/2018 | 10/5/2018, [Insert Federal Register citation] |
31-0080 | Issuance or Denial of Permit | 3/23/2018 | 10/5/2018, [Insert Federal Register citation] |
Title 32—Emission Standards
32-001 | Definitions | 3/23/2018 | 10/5/2018, [Insert Federal Register citation] |
32-005 | Highest and Best Practicable Treatment and Control Required | 3/23/2018 | 10/5/2018, [Insert Federal Register citation] |
32-006 | Pollution Prevention | 3/23/2018 | 10/5/2018, [Insert Federal Register citation] |
32-007 | Operating and Maintenance Requirements | 3/23/2018 | 10/5/2018, [Insert Federal Register citation] |
32-008 | Typically-Achievable Control Technology Requirements | 3/23/2018 | 10/5/2018, [Insert Federal Register citation] |
32-009 | Additional Control Requirements for Stationary Sources of Air Contaminants | 3/23/2018 | 10/5/2018, [Insert Federal Register citation] |
32-010 | Visible Air Contaminant Limitations | 3/23/2018 | 10/5/2018, [Insert Federal Register citation] |
32-015 | Particulate Matter Emission Limitations for Sources Other than Fuel Burning Equipment, Refuse Burning Equipment, and Fugitive Emissions | 3/23/2018 | 10/5/2018, [Insert Federal Register citation] |
32-020 | Particulate Matter Weight Standards—Existing Combustion Sources | 3/23/2018 | 10/5/2018, [Insert Federal Register citation] |
32-030 | Particulate Matter Weight Standards—New Combustion Sources | 3/23/2018 | 10/5/2018, [Insert Federal Register citation] |
32-045 | Process Weight Emission Limitations and Determination of Process Weight | 3/23/2018 | 10/5/2018, [Insert Federal Register citation] |
32-050 | Concealment and Masking of Emissions | 3/23/2018 | 10/5/2018, [Insert Federal Register citation] |
32-060 | Air Conveying Systems | 3/23/2018 | 10/5/2018, [Insert Federal Register citation] |
Gaseous Emission Limitations
32-065 | Sulfur Content of Fuels | 3/23/2018 | 10/5/2018, [Insert Federal Register citation] |
32-070 | Sulfur Dioxide Emission Limitations | 3/23/2018 | 10/5/2018, [Insert Federal Register citation] |
32-090 | Other Emissions | 3/31/2014 | 10/5/2018, [Insert Federal Register citation] |
32-100 | Alternative Emission Controls (Bubble) | 3/23/2018 | 10/5/2018, [Insert Federal Register citation] |
32-8010 | Particulate Matter Emissions Standards for Process Equipment | 3/23/2018 | 10/5/2018, [Insert Federal Register citation] |
Title 33—Prohibited Practices and Control of Special Classes of Industry
33-005 | Definitions | 3/23/2018 | 10/5/2018, [Insert Federal Register citation] |
33-060 | Board Products Industries (Hardboard, Particleboard, Plywood, Veneer) | 3/23/2018 | 10/5/2018, [Insert Federal Register citation] |
33-065 | Charcoal Producing Plants | 3/23/2018 | 10/5/2018, [Insert Federal Register citation] |
33-070 | Kraft Pulp Mills | 3/23/2018 | 10/5/2018, [Insert Federal Register citation] | Except in (1) the definitions of “non-condensables”, “other sources”, and “TRS”, (3)(a), (4)(b) (5)(b), (6)(a), and (6)(b).
33-500 | Particulate Matter Emissions Standards for Process Equipment | 3/23/2018 | 10/5/2018, [Insert Federal Register citation] |
Title 34—Stationary Source Notification Requirements
34-005 | Definitions | 3/23/2018 | 10/5/2018, [Insert Federal Register citation] |
34-010 | Applicability | 3/23/2018 | 10/5/2018, [Insert Federal Register citation] |
34-015 | Request for Information | 3/23/2018 | 10/5/2018, [Insert Federal Register citation] |
34-016 | Records: Maintaining and Reporting | 3/23/2018 | 10/5/2018, [Insert Federal Register citation] |
34-017 | Enforcement; Credible Evidence | 3/23/2018 | 10/5/2018, [Insert Federal Register citation] |
34-020 | Information Exempt from Disclosure | 3/23/2018 | 10/5/2018, [Insert Federal Register citation] |
Registration
34-025 | Registration is General | 3/23/2018 | 10/5/2018, [Insert Federal Register citation] |
34-030 | Source Registration Requirements and Re-Registration and Maintaining Registration | 3/23/2018 | 10/5/2018, [Insert Federal Register citation] |
Notice of Construction and Approval of Plans
34-034 | Requirements for Construction | 3/23/2018 | 10/5/2018, [Insert Federal Register citation] |
34-035 | Types of Construction/Modification Changes | 3/23/2018 | 10/5/2018, [Insert Federal Register citation] |
34-036 | Notice to Construct | 3/23/2018 | 10/5/2018, [Insert Federal Register citation] |
34-037 | Construction Approval | 3/23/2018 | 10/5/2018, [Insert Federal Register citation] |
34-038 | Approval to Operate | 3/23/2018 | 10/5/2018, [Insert Federal Register citation] |
Title 35—Stationary Source Testing and Monitoring
35-0010 | Definitions | 3/23/2018 | 10/5/2018, [Insert Federal Register citation] |
Sampling, Testing and Measurement
35-0110 | Applicability | 3/23/2018 | 10/5/2018, [Insert Federal Register citation] |
35-0120 | Program | 3/23/2018 | 10/5/2018, [Insert Federal Register citation] |
35-0130 | Stack Heights and Dispersion Techniques | 3/23/2018 | 10/5/2018, [Insert Federal Register citation] |
35-0140 | Methods | 3/23/2018 | 10/5/2018, [Insert Federal Register citation] |
35-0150 | LRAPA Testing | 3/31/2014 | 10/5/2018, [Insert Federal Register citation] |
Title 37—Air Contaminant Discharge Permits
37-0010 | Purpose | 3/23/2018 | 10/5/2018, [Insert Federal Register citation] |
37-0020 | Applicability and Jurisdiction | 3/23/2018 | 10/5/2018, [Insert Federal Register citation] |
37-0025 | Types of Permits | 3/23/2018 | 10/5/2018, [Insert Federal Register citation] |
37-0030 | Definitions | 3/23/2018 | 10/5/2018, [Insert Federal Register citation] |
37-0040 | Application Requirements | 3/23/2018 | 10/5/2018, [Insert Federal Register citation] |
37-0052 | Construction ACDP | 3/23/2018 | 10/5/2018, [Insert Federal Register citation] |
37-0054 | Short Term Activity ACDPs | 3/23/2018 | 10/5/2018, [Insert Federal Register citation] |
37-0056 | Basic ACDPs | 3/23/2018 | 10/5/2018, [Insert Federal Register citation] |
37-0060 | General Air Contaminant Discharge Permits | 3/23/2018 | 10/5/2018, [Insert Federal Register citation] |
37-0062 | General ACDP Attachments | 3/23/2018 | 10/5/2018, [Insert Federal Register citation] |
37-0064 | Simple ACDPs | 3/23/2018 | 10/5/2018, [Insert Federal Register citation] |
37-0066 | Standard ACDPs | 3/23/2018 | 10/5/2018, [Insert Federal Register citation] |
37-0068 | Simple and Standard ACDP Attachments | 3/23/2018 | 10/5/2018, [Insert Federal Register citation] |
37-0070 | Permitting a Source with Multiple Activities or Processes at a Single Adjacent or Contiguous Site | 3/23/2018 | 10/5/2018, [Insert Federal Register citation] |
37-0082 | Termination or Revocation of an ACDP | 3/23/2018 | 10/5/2018, [Insert Federal Register citation] |
37-0084 | LRAPA-Initiated Modification | 3/23/2018 | 10/5/2018, [Insert Federal Register citation] |
37-0090 | Sources Subject to ACDPs and Fees | 3/23/2018 | 10/5/2018, [Insert Federal Register citation] |
37-0094 | Temporary Closure | 3/23/2018 | 10/5/2018, [Insert Federal Register citation] |
37-8010 | Table 1—Activities and Sources | 3/23/2018 | 10/5/2018, [Insert Federal Register citation] |
37-8020 | Table 2—Air Contaminant Discharge Permits | 3/23/2018 | 10/5/2018, [Insert Federal Register citation] |
Title 38—New Source Review
38-0010 | Applicability and General Prohibitions, General Requirements and Jurisdiction | 3/23/2018 | 10/5/2018, [Insert Federal Register citation] |
38-0020 | Definitions | 3/23/2018 | 10/5/2018, [Insert Federal Register citation] |
38-0025 | Major Modification | 3/23/2018 | 10/5/2018, [Insert Federal Register citation] |
38-0030 | New Source Review Procedural Requirements | 3/23/2018 | 10/5/2018, [Insert Federal Register citation] |
38-0034 | Exemptions | 3/23/2018 | 10/5/2018, [Insert Federal Register citation] |
38-0038 | Fugitive and Secondary Emissions | 3/23/2018 | 10/5/2018, [Insert Federal Register citation] |
38-0040 | Review of Sources Subject to Major NSR or Type A State NSR for Compliance With Regulations | 3/23/2018 | 10/5/2018, [Insert Federal Register citation] |
Major New Source Review
38-0045 | Requirements for Sources in Sustainment Areas | 3/23/2018 | 10/5/2018, [Insert Federal Register citation] |
38-0050 | Requirements for Sources in Nonattainment Areas | 3/23/2018 | 10/5/2018, [Insert Federal Register citation] |
38-0055 | Requirements for Sources in Reattainment Areas | 3/23/2018 | 10/5/2018, [Insert Federal Register citation] |
38-0060 | Records; Maintaining and Reporting | 3/23/2018 | 10/5/2018, [Insert Federal Register citation] |
38-0070 | Prevention of Significant Deterioration Requirements for Sources in Attainment or Unclassified Areas | 3/23/2018 | 10/5/2018, [Insert Federal Register citation] |
State New Source Review
38-0245 | Requirements for Sources in Sustainment Areas | 3/23/2018 | 10/5/2018, [Insert Federal Register citation] |
38-0250 | Requirements for Sources in Nonattainment Areas | 3/23/2018 | 10/5/2018, [Insert Federal Register citation] |
38-0255 | Requirements for Sources in Reattainment Areas | 3/23/2018 | 10/5/2018, [Insert Federal Register citation] |
38-0260 | Requirements for Sources in Maintenance Areas | 3/23/2018 | 10/5/2018, [Insert Federal Register citation] |
38-0270 | Requirement for Sources in Attainment and Unclassified Areas | 3/23/2018 | 10/5/2018, [Insert Federal Register citation] |
Net Air Quality Benefit Emission Offsets
38-0500 | Net Air Quality Benefit for Sources Locating Within or Impacting Designated Areas | 3/23/2018 | 10/5/2018, [Insert Federal Register citation] |
38-0510 | Common Offset Requirements | 3/23/2018 | 10/5/2018, [Insert Federal Register citation] | Except (3).
38-0530 | Requirements for Demonstrating Net Air Quality Benefit for Non-Ozone Areas | 3/23/2018 | 10/5/2018, [Insert Federal Register citation] |
38-0540 | Sources in a Designated Area Impacting Other Designated Areas | 3/23/2018 | 10/5/2018, [Insert Federal Register citation] |
Title 39—Contingency for PM10 Sources in Eugene-Springfield Non-Attainment Area
39-001 | Purpose | 11/13/1991 | 8/24/1994, 59 FR 43483 |
39-005 | Relation to Other Rules | 11/13/1991 | 8/24/1994, 59 FR 43483 |
39-010 | Applicability | 11/13/1991 | 8/24/1994, 59 FR 43483 |
39-015 | Definitions | 11/13/1991 | 8/24/1994, 59 FR 43483 |
39-020 | Compliance Schedule for Existing Sources | 11/13/1991 | 8/24/1994, 59 FR 43483 |
39-025 | Wood-Waste Boilers | 11/13/1991 | 8/24/1994, 59 FR 43483 |
39-030 | Veneer Dryers | 11/13/1991 | 8/24/1994, 59 FR 43483 |
39-035 | Particle Board Plants and Wood Particle Dryers | 11/13/1991 | 8/24/1994, 59 FR 43483 |
39-040 | Kraft Pulp Mills | 11/13/1991 | 8/24/1994, 59 FR 43483 |
39-050 | Air Conveying Systems | 11/13/1991 | 8/24/1994, 59 FR 43483 |
39-055 | Fugitive Dust | 11/13/1991 | 8/24/1994, 59 FR 43483 |
39-060 | Open Burning | 11/13/1991 | 8/24/1994, 59 FR 43483 |
Title 40—Air Quality Analysis Requirements
40-0010 | Purpose | 3/23/2018 | 10/5/2018, [Insert Federal Register citation] |
40-0020 | Definitions | 3/23/2018 | 10/5/2018, [Insert Federal Register citation] |
40-0030 | Procedural Requirements | 3/23/2018 | 10/5/2018, [Insert Federal Register citation] |
40-0040 | Air Quality Models | 3/23/2018 | 10/5/2018, [Insert Federal Register citation] |
40-0045 | Requirements for Analysis in Maintenance Areas | 3/23/2018 | 10/5/2018, [Insert Federal Register citation] |
40-0050 | Requirements for Analysis in PSD Class II and Class III Areas | 3/23/2018 | 10/5/2018, [Insert Federal Register citation] |
40-0060 | Requirements for Demonstrating Compliance with Standards and Increments in PSD Class I Areas | 3/23/2018 | 10/5/2018, [Insert Federal Register citation] |
40-0070 | Requirements for Demonstrating Compliance with Air Quality Related Values Protection | 3/23/2018 | 10/5/2018, [Insert Federal Register citation] |
Title 41—Emission Reduction Credits
41-0010 | Applicability | 3/31/2014 | 10/5/2018, [Insert Federal Register citation] |
41-0020 | Definitions | 3/23/2018 | 10/5/2018, [Insert Federal Register citation] |
41-0030 | Emission Reduction Credits | 3/23/2018 | 10/5/2018, [Insert Federal Register citation] |
Title 42—Stationary Source Plant Site Emission Limits
42-0010 | Policy | 3/23/2018 | 10/5/2018, [Insert Federal Register citation] |
42-0020 | Applicability | 3/23/2018 | 10/5/2018, [Insert Federal Register citation] |
42-0030 | Definitions | 3/23/2018 | 10/5/2018, [Insert Federal Register citation] |
Criteria for Establishing Plant Site Emission Limits
42-0035 | General Requirements for Establishing All PSELs | 3/23/2018 | 10/5/2018, [Insert Federal Register citation] |
42-0040 | Generic Annual PSEL | 3/23/2018 | 10/5/2018, [Insert Federal Register citation] |
42-0041 | Source Specific Annual PSEL | 3/23/2018 | 10/5/2018, [Insert Federal Register citation] |
42-0042 | Short Term PSEL | 3/23/2018 | 10/5/2018, [Insert Federal Register citation] |
42-0046 | Netting Basis | 3/23/2018 | 10/5/2018, [Insert Federal Register citation] |
42-0048 | Baseline Period and Baseline Emission Rate | 3/23/2018 | 10/5/2018, [Insert Federal Register citation] |
42-0051 | Actual Emissions | 3/23/2018 | 10/5/2018, [Insert Federal Register citation] |
42-0055 | Unassigned Emissions | 3/23/2018 | 10/5/2018, [Insert Federal Register citation] |
42-0080 | Plant Site Emission Limit Compliance | 3/23/2018 | 10/5/2018, [Insert Federal Register citation] |
42-0090 | Combining and Splitting Sources and Changing Primary SIC Code | 3/23/2018 | 10/5/2018, [Insert Federal Register citation] |
Title 47—Open Burning
47-001 | General Policy | 3/14/2008 | 10/23/2015, 80 FR 64346 |
47-005 | Exemptions from These Rules | 3/14/2008 | 10/23/2015, 80 FR 64346 |
47-010 | Definitions | 3/14/2008 | 10/23/2015, 80 FR 64346 | Except the definition of “nuisance”.
47-015 | Open Burning Requirements | 3/14/2008 | 10/23/2015, 80 FR 64346 | Except 1.D, 1.H, 6.B(5).
47-020 | Letter Permits | 3/14/2008 | 10/23/2015, 80 FR 64346 | Except 3, 9.I, and 10.
Title 48—Rules for Fugitive Emissions
48-001 | General Policy | 3/23/2018 | 10/5/2018, [Insert Federal Register citation] |
48-005 | Definitions | 3/23/2018 | 10/5/2018, [Insert Federal Register citation] |
48-010 | General Applicability | 3/23/2018 | 10/5/2018, [Insert Federal Register citation] |
48-015 | General Requirements for Fugitive Emissions | 3/23/2018 | 10/5/2018, [Insert Federal Register citation] |
Title 50—Ambient Air Standards and PSD Increments
50-001 | Definitions | 3/23/2018 | 10/5/2018, [Insert Federal Register citation] |
Ambient Air Quality Standards
50-005 | Purpose and Scope of Ambient Air Quality Standards | 3/23/2018 | 10/5/2018, [Insert Federal Register citation] |
50-015 | Suspended Particulate Matter | 3/23/2018 | 10/5/2018, [Insert Federal Register citation] |
50-025 | Sulfur Dioxide | 3/23/2018 | 10/5/2018, [Insert Federal Register citation] |
50-030 | Carbon Monoxide | 3/23/2018 | 10/5/2018, [Insert Federal Register citation] |
50-035 | Ozone | 3/23/2018 | 10/5/2018, [Insert Federal Register citation] |
50-040 | Nitrogen Dioxide | 3/23/2018 | 10/5/2018, [Insert Federal Register citation] |
50-045 | Lead | 3/23/2018 | 10/5/2018, [Insert Federal Register citation] |
PSD Increments
50-050 | General | 3/23/2018 | 10/5/2018, [Insert Federal Register citation] |
50-055 | Ambient Air PSD Increments | 3/23/2018 | 10/5/2018, [Insert Federal Register citation] |
50-060 | Ambient Air Ceilings | 3/31/2014 | 10/5/2018, [Insert Federal Register citation] |
50-065 | Ambient Air Quality Impact Levels for Maintenance Areas | 3/23/2018 | 10/5/2018, [Insert Federal Register citation] |
Title 51—Air Pollution Emergencies
51-005 | Introduction | 3/23/2018 | 10/5/2018, [Insert Federal Register citation] |
51-007 | Definitions | 3/23/2018 | 10/5/2018, [Insert Federal Register citation] |
51-010 | Episode Stage Criteria for Air Pollution Emergencies | 3/23/2018 | 10/5/2018, [Insert Federal Register citation] |
51-011 | Special Conditions | 3/23/2018 | 10/5/2018, [Insert Federal Register citation] |
51-015 | Source Emission Reduction Plans | 3/23/2018 | 10/5/2018, [Insert Federal Register citation] |
51-020 | Preplanned Abatement Strategies | 3/23/2018 | 10/5/2018, [Insert Federal Register citation] |
51-025 | Implementation | 3/23/2018 | 10/5/2018, [Insert Federal Register citation] |
Table I | Air Pollution Episode, Alert Conditions Emission Reduction Plan | 3/23/2018 | 10/5/2018, [Insert Federal Register citation] |
Table II | Air Pollution Episode, Warning Conditions Emission Reduction Plan | 3/23/2018 | 10/5/2018, [Insert Federal Register citation] |
Table III | Air Pollution Episode, Emergency Conditions Emission Reduction Plan | 3/23/2018 | 10/5/2018, [Insert Federal Register citation] |

* * * * *

(e) * * *

Lane County Regional Air Pollution Authority Regulations, Approved but Not Incorporated by Reference
LRAPA citation | Title/subject | State effective date | EPA approval date | Explanation
Title 13—General Duties and Powers of Board and Director
13-005 | Authority of the Agency | 3/31/2014 | 10/5/2018, [Insert Federal Register citation] |
13-010 | Duties and Powers of the Board of Directors | 3/31/2014 | 10/5/2018, [Insert Federal Register citation] |
13-020 | Duties and Function of the Director | 3/31/2014 | 10/5/2018, [Insert Federal Register citation] |
13-025 | Conflict of Interest | 3/31/2014 | 10/5/2018, [Insert Federal Register citation] |
13-030 | Advisory Committee | 3/31/2014 | 10/5/2018, [Insert Federal Register citation] |
13-035 | Public Records and Confidential Information | 3/31/2014 | 10/5/2018, [Insert Federal Register citation] |
Title 14—Rules of Practice and Procedure
14-110 | Definitions | 3/23/2018 | 10/5/2018, [Insert Federal Register citation] |
Rulemaking
14-115 | Rulemaking Notice | 3/23/2018 | 10/5/2018, [Insert Federal Register citation] |
14-120 | Rulemaking Hearings and Process | 3/23/2018 | 10/5/2018, [Insert Federal Register citation] |
14-125 | Temporary Rules | 3/23/2018 | 10/5/2018, [Insert Federal Register citation] |
14-130 | Petition to Promulgate, Amend or Repeal Rule—Content of Petition, Filing of Petition | 3/23/2018 | 10/5/2018, [Insert Federal Register citation] |
14-135 | Declaratory Rulings | 3/23/2018 | 10/5/2018, [Insert Federal Register citation] |
Contested Cases
14-140 | Contested Case Proceedings Generally | 3/23/2018 | 10/5/2018, [Insert Federal Register citation] |
14-145 | Agency Representation by Environmental Law Specialist | 3/23/2018 | 10/5/2018, [Insert Federal Register citation] |
14-147 | Authorized Representative of Respondent other than a Natural Person in a Contested Case Hearing | 3/23/2018 | 10/5/2018, [Insert Federal Register citation] |
14-150 | Liability for the Acts of a Person's Employees | 3/23/2018 | 10/5/2018, [Insert Federal Register citation] |
14-155 | Consolidation or Bifurcation of Contested Case Hearings | 3/23/2018 | 10/5/2018, [Insert Federal Register citation] |
14-160 | Final Orders | 3/23/2018 | 10/5/2018, [Insert Federal Register citation] |
14-165 | Default Orders | 3/23/2018 | 10/5/2018, [Insert Federal Register citation] |
14-170 | Appeal to the Board | 3/23/2018 | 10/5/2018, [Insert Federal Register citation] |
14-175 | Power of the Director | 3/23/2018 | 10/5/2018, [Insert Federal Register citation] |
14-185 | Request for Stay Pending Judicial Review | 3/23/2018 | 10/5/2018, [Insert Federal Register citation] |
14-190 | Request for Stay—Motion to Intervene | 3/23/2018 | 10/5/2018, [Insert Federal Register citation] |
14-200 | Request for Stay—Agency Determination | 3/23/2018 | 10/5/2018, [Insert Federal Register citation] |
14-205 | Request for Stay—Time Frames | 3/23/2018 | 10/5/2018, [Insert Federal Register citation] |
Title 15—Enforcement Procedures and Civil Penalties
15-001 | Policy | 6/13/1995 | 8/3/2001, 66 FR 40616 |
15-003 | Scope of Applicability | 6/13/1995 | 8/3/2001, 66 FR 40616 |
15-005 | Definitions | 6/13/1995 | 8/3/2001, 66 FR 40616 |
15-010 | Consolidation of Proceedings | 6/13/1995 | 8/3/2001, 66 FR 40616 |
15-015 | Notice of Violation | 6/13/1995 | 8/3/2001, 66 FR 40616 |
15-018 | Notice of Permit Violations and Exceptions | 6/13/1995 | 8/3/2001, 66 FR 40616 |
15-020 | Enforcement Actions | 6/13/1995 | 8/3/2001, 66 FR 40616 |
15-025 | Civil Penalty Schedule Matrices | 6/13/1995 | 8/3/2001, 66 FR 40616 |
15-030 | Civil Penalty Determination Procedure (Mitigating and Aggravating Factors) | 6/13/1995 | 8/3/2001, 66 FR 40616 |
15-035 | Written Notice of Civil Penalty Assessment—When Penalty Payable | 6/13/1995 | 8/3/2001, 66 FR 40616 |
15-040 | Compromise or Settlement of Civil Penalty by Director | 6/13/1995 | 8/3/2001, 66 FR 40616 |
15-045 | Stipulated Penalties | 6/13/1995 | 8/3/2001, 66 FR 40616 |
15-050 | Additional Civil Penalties | 6/13/1995 | 8/3/2001, 66 FR 40616 |
15-055 | Air Quality Classification of Violation | 6/13/1995 | 8/3/2001, 66 FR 40616 |
15-060 | Selected Magnitude Categories | 6/13/1995 | 8/3/2001, 66 FR 40616 |
15-065 | Appeals | 6/13/1995 | 8/3/2001, 66 FR 40616 |
Title 31—Public Participation
31-0070 | Hearing Procedures | 3/23/2018 | 10/5/2018, [Insert Federal Register citation] |

* * * * *

3. Section 52.1987 is amended by revising paragraph (b) to read as follows:

§ 52.1987 Significant deterioration of air quality.

* * * * *

(b) The Lane Regional Air Protection Agency rules for the prevention of significant deterioration of air quality (provisions of LRAPA Titles 12, 29, 31, 37, 38 (except 0510(3) inter-pollutant offset ratios), 40, 42, and 50) as in effect March 23, 2018, are approved as meeting the requirements of title I, part C, subpart I of the Clean Air Act for preventing significant deterioration of air quality.

* * * * *

[FR Doc. 2018-21558 Filed 10-4-18; 8:45 am]

BILLING CODE 6560-50-P